DEPARTMENT OF HEALTH AND HUMAN SERVICES

Centers for Disease Control and Prevention

Board of Scientific Counselors, National Center for Injury Prevention and Control

AGENCY: Centers for Disease Control and Prevention (CDC), Department of Health and Human Services (HHS).

ACTION: Notice of meeting.

SUMMARY: In accordance with regulatory provisions, the Centers for Disease Control and Prevention (CDC) announces the following meeting for the Board of Scientific Counselors, National Center for Injury Prevention and Control (BSC, NCIPC or Board). This meeting is partially open to the public.

DATES: The meeting will be held on May 3, 2023, from 1 p.m. to 3 p.m., EDT (CLOSED); and May 4, 2023, from 9:30 a.m. to 3:30 p.m., EDT (OPEN). The public comment period will be at the end of the open session of the meeting on May 4, 2023, from 3:10 p.m. to 3:25 p.m., EDT.

ADDRESSES: Webinar, Atlanta, Georgia. All participants must register by using the following link to attend the open session: https://cdc.zoomgov.com/meeting/register/vJIsfuqtrT4pE4H6-oCKSs9t2KHS69o3yHo.

FOR FURTHER INFORMATION CONTACT: Christopher R. Harper, Ph.D., Senior Epidemiologist, National Center for Injury Prevention and Control, Centers for Disease Control and Prevention, 4770 Buford Highway NE, Mailstop S-1069, Atlanta, Georgia 30341. Telephone: (404) 718-8330; Email: ncipcbsc@cdc.gov.

SUPPLEMENTARY INFORMATION: Portions of the meeting referenced above will be closed to the public in accordance with provisions set forth in section 552b(c)(4) and (6), title 5 U.S.C., and the Determination of the Director, Strategic Business Initiatives Unit, Office of the Chief Operating Officer, CDC, pursuant to Public Law 92-463 (5 U.S.C. 1009), as amended.

Purpose: The Board of Scientific Counselors, National Center for Injury Prevention and Control (BSC, NCIPC or Board) will: (1) conduct, encourage, cooperate with, and assist other appropriate public health authorities, scientific institutions, and scientists in the conduct of research, investigations, experiments, demonstrations, and studies relating to the causes, diagnosis, treatment, control, and prevention of physical and mental diseases, and other impairments; (2) assist States and their political subdivisions in preventing and suppressing communicable and non-communicable diseases and other preventable conditions and in promoting health and well-being; and (3) conduct and assist in research and control activities related to injury. The BSC, NCIPC makes recommendations regarding policies, strategies, objectives, and priorities; reviews progress toward injury prevention goals; and provides evidence in injury prevention-related research and programs. The Board also provides advice on the appropriate balance of intramural and extramural research, as well as the structure, progress, and performance of intramural programs. The Board provides guidance on extramural scientific program matters, including the: (1) review of extramural research concepts for funding opportunity announcements; (2) conduct of Secondary Peer Review of extramural research grant applications, cooperative agreement applications, and contract applications received in response to funding opportunity announcements as they relate to the Center's programmatic balance and mission; (3) submission of secondary review recommendations to the Center Director of applications to be considered for funding support; (4) review of research portfolios; and (5) review of program proposals.

Matters To Be Considered: The closed session of the meeting (Day 1) will focus on the Secondary Peer Review of extramural research grant applications received in response to two (2) Notices of Funding Opportunity: RFA-CE-20-001—“Evaluating Practice-based Programs, Policies, and Practices from CDC's Rape Prevention and Education (RPE) Program: Expanding the Evidence to Prevent Sexual Violence (U01)”; and RFA-CE-23-008—“Research Grants to Develop and Validate a Prognostic Tool of Mental Health Sequelae After Traumatic Brain Injury for Adolescent Patients” (U01).” The open session of the meeting (Day 2) will include discussions on Improving the Quality and Reach of Extramural Research Notices of Funding Opportunity; Updated and Expanded CDC Guidance for the Identification and Response of Suicide Clusters; Developing a Cascade of Care Framework and Surveillance Indicators to Measure Linkage and Retention to Care for Substance Use Disorders; and Moving Science and Data to Violence Prevention Action. Agenda items are subject to change as priorities dictate.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2023-05638 Filed 3-17-23; 8:45 am]

BILLING CODE 4163-18-P